DEPARTMENT OF EDUCATION

Office of Elementary and Secondary Education—Safe and Drug-Free Schools and Communities National Programs—Federal Activities—Grant Competition to Prevent High-Risk Drinking and Violent Behavior Among College Students

AGENCY: Office of Elementary and Secondary Education, Department of Education.

ACTION: Notice of final priorities and selection criteria for fiscal year (FY) 2001 and subsequent years.

SUMMARY: The Assistant Secretary for the Office of Elementary and Secondary Education announces final priorities and selection criteria under the Safe and Drug-Free Schools and Communities National Programs-Federal Activities-Grant Competition to Prevent High-Risk Drinking and Violent Behavior Among College Students. The Assistant Secretary may use these priorities and selection criteria for competitions in fiscal year (FY) 2001 and later years.

EFFECTIVE DATE: These priorities and selection criteria are effective January 26, 2001.

FOR FURTHER INFORMATION CONTACT: Richard Lucey, Jr., U.S. Department of Education, 400 Maryland Avenue, SW—Room 3E252, Washington, DC 20202-6123. Telephone: (202) 205-5471. If you use a telecommunications device for the deaf (TDD), you may call the Federal Information Relay Service (FIRS) at (800) 877-8339. Individuals with disabilities may obtain this document in an alternate format (e.g., Braille, large print, audiotape, or computer diskette) on request to the contact person listed in the preceding paragraph.

Note: This notice does not solicit applications. In any year in which the Assistant Secretary chooses to use these final priorities and selection criteria, we invite applications through a notice in the Federal Register. A notice inviting applications under this competition is published elsewhere in this issue of the Federal Register.

SUPPLEMENTARY INFORMATION: The Assistant Secretary published a notice of proposed priorities and selection criteria for this competition in the Federal Register on October 16, 2000 (65 FR 61246-61247). Except for minor editorial revisions, there are no differences between the notice of proposed priorities and selection criteria and this notice of final priorities and selection criteria.

Analysis of Comments and Changes

In response to the Assistant Secretary's invitation in the notice of proposed priorities and selection criteria, nine parties submitted comments on the proposed priorities. An analysis of the comments follows, grouped by major issues according to subject. No changes have been made in response to the comments.

Generally, we do not address technical and other minor changes, and suggested changes the law does not authorize the Assistant Secretary to make under the applicable statutory authority.

Eligible Applicants

Comments: One party recommended that eligible applicants include statewide higher education coalitions.

Discussion: Eligible applicants under this grant competition include institutions of higher education, consortia thereof, other public and private nonprofit organizations, or individuals. Insofar as statewide higher education coalitions are nonprofit organizations, they would be eligible to apply for funding under this grant competition.

Changes: None.

Absolute Priorities

Comments: Six parties recommended that the word “or” be removed from the section within each of the two priorities that states “campus- and/or community-based strategies.”

Discussion: The priority language is broad enough to include a wide range of prevention strategies that can originate either on the campus or within its surrounding community. The Assistant Secretary does not intend to exclude community representatives from campus-based efforts, nor exclude campus representatives from community-based efforts, to prevent high-risk drinking and violent behavior among college students. To the contrary, the selection criteria for this grant competition award points for proposed projects that will establish linkages with other appropriate agencies and organizations providing services to the target population.

Changes: None.

Focus of Funding

Comments: Two parties recommended that the Department's discretionary grant funding should focus on building regional or statewide coalitions.

Discussion: In Fiscal Year 1999, the Department conducted a State and Regional Coalition Grant Competition to Prevent High-Risk Drinking Among College Students. Although the current Grant Competition to Prevent High-Risk Drinking and Violent Behavior Among College Students does not have the express purpose of creating or sustaining coalitions, the Assistant Secretary does encourage collaboration among colleges and State and regional stakeholders in order to mobilize them into action and create systemic change. However, the Assistant Secretary has determined that this year's grant competition will focus on campus- and/or community-based efforts.

Changes: None.

General

In making awards under this grant program, the Assistant Secretary may take into consideration the geographic distribution of the projects in addition to the rank order of applicants.

Contingent upon the availability of funds, the Assistant Secretary may make additional awards in FY 2002 from the rank-ordered list of nonfunded applications from this competition.

Definitions

1. “High-risk drinking” is defined as those situations that may involve but not be limited to: Binge drinking (commonly defined as five or more drinks on any one occasion); underage drinking; drinking and driving; drinking in conjunction with situations when one's condition is already impaired by another cause, such as depression or emotional stress; or combining alcohol and medications, such as tranquilizers, sedatives, and antihistamines.

2. “Specific student populations” can include but not be limited to student athletes, members of fraternities and sororities, students attending two-year institutions of higher education, and first-year students.

Priorities

Under 34 CFR 75.105(c)(3) and the Safe and Drug-Free Schools and Communities Act of 1994, the Assistant Secretary gives an absolute preference to applications that meet either of the following priorities, and funds under this competition only those applications that meet either of the following absolute priorities:

Absolute Priority #1—Develop or Enhance, Implement, and Evaluate Campus- and/or Community-Based Strategies to Prevent High-Risk Drinking Among College Students

Under this priority, applicants are required to:

(1) Identify a specific student population to be served by the grant and provide a justification for its selection;

(2) Provide evidence that a needs assessment has been conducted on campus to document prevalence rates related to high-risk drinking by the population selected;

(3) Set measurable goals and objectives for the proposed project and provide a description of how progress toward achieving goals will be measured annually;

(4) Design and implement prevention strategies, using student input and participation, that research has shown to be effective in preventing high-risk drinking by the target population;

(5) Use a qualified evaluator to design and implement an evaluation of the project using outcomes-based (summative) performance indicators related to behavioral change and process (formative) measures that assess and document the strategies used; and

(6) Demonstrate the ability to start the project within 60 days after receiving Federal funding in order to maximize the time available to show impact within the grant period.

Absolute Priority #2—Develop or Enhance, Implement, and Evaluate Campus- and/or Community-Based Strategies to Prevent High-Risk Drinking Among College Students

Under this priority, applicants are required to:

(1) Identify a specific student population to be served by the grant and provide a justification for its selection;

(2) Provide evidence that a needs assessment has been conducted on campus to document prevalence rates related to violent behavior;

(3) Set measurable goals and objectives for the proposed project and provide a description of how progress toward achieving goals will be measured annually;

(4) Design and implement prevention strategies, using student input and participation, that research has shown to be effective in preventing violent behavior among college students;

(5) Use a qualified evaluator to design and implement an evaluation of the project using outcomes-based (summative) performance indicators related to behavioral change and process (formative) measures that assess and document the strategies used; and

(6) Demonstrate the ability to start the project within 60 days after receiving Federal funding in order to maximize the time available to show impact within the grant period.

Selection Criteria

The Assistant Secretary uses the following selection criteria to evaluate applications for new grants under this competition. The maximum score for all of these criteria is 100 points. The maximum score for each criterion or factor under that criterion is indicated in parentheses.

(1) Need for project. (15 points)

In determining the need for the proposed project, the following factors are considered:

(a) The magnitude or severity of the problem to be addressed by the proposed project. (10 points)

(b) The extent to which specific gaps or weaknesses in services, infrastructure, or opportunities have been identified and will be addressed by the proposed project, including the nature and magnitude of those gaps or weaknesses. (5 points)

(2) Significance. (20 points)

In determining the significance of the proposed project, the following factors are considered:

(a) The likelihood that the proposed project will result in system change or improvement. (5 points)

(b) The potential contribution of the proposed project to the development and advancement of theory, knowledge, and practices in the field of study. (10 points)

(c) The extent to which the proposed project involves the development or demonstration of promising new strategies that build on, or are alternatives to, existing strategies. (5 points)

(3) Quality of the project design. (30 Points)

In determining the quality of the design of the proposed project, the following factors are considered:

(a) The extent to which the goals, objectives, and outcomes to be achieved by the proposed project are clearly specified and measurable. (10 points)

(b) The extent to which the design of the proposed project is appropriate to, and will successfully address, the needs of the target population or other identified needs. (5 points)

(c) The extent to which the design of the proposed project reflects up-to-date knowledge from research and effective practice. (10 points)

(d) The extent to which the proposed project will establish linkages with other appropriate agencies and organizations providing services to the target population. (5 points)

(4) Quality of project personnel. (10 points)

In determining the quality of project personnel, the following factors are considered:

(a) The extent to which the applicant encourages applications for employment from persons who are members of groups that have traditionally been underrepresented based on race, color, national origin, gender, age, or disability. (3 points)

(b) The qualifications, including relevant training and experience, of key project personnel. (7 points)

(5) Quality of the project evaluation. (25 points)

In determining the quality of the evaluation, the following factors are considered:

(a) The extent to which the methods of evaluation are thorough, feasible, and appropriate to the goals, objectives, and outcomes of the proposed project. (10 points)

(b) The extent to which the methods of evaluation include the use of objective performance measures that are clearly related to the intended outcomes of the project and will produce quantitative and qualitative data to the extent possible. (10 points)

(c) The extent to which the methods of evaluation will provide performance feedback and permit periodic assessment of progress toward achieving intended outcomes. (5 points)

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Applicable Program Regulations: The Education Department General Administrative Guidelines in 34 CFR parts 74, 75, 77, 79, 80, 81, 82, 85, 86, 97, 98, and 99.

Program Authority: 20 U.S.C. 7131.

Electronic Access to This Document

You may view this document, as well as all other Department of Education documents published in the Federal Register, in text or Adobe Portable Document Format (PDF) on the Internet at either of the following sites:

http://ocfo.ed.gov/fedreg.htm

http://www.ed.gov/news.html

To use PDF, you must have the Adobe Acrobat Reader, which is available free at either of the previous sites. If you have questions about using PDF, call the U.S. Government Printing Office (GPO) toll free at (888) 293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number 84.184H Office of Elementary and Secondary Education—Safe and Drug-Free Schools and Communities National Programs—Federal Activities—Grant Competition to Prevent High-Risk Drinking and Violent Behavior Among College Students)

Dated: December 21, 2000.
Michael Cohen,
Assistant Secretary for Elementary and Secondary Education.

[FR Doc. 00-33007 Filed 12-26-00; 8:45 am]

BILLING CODE 4000-01-U